OFFICE OF MANAGEMENT AND BUDGET

Office of Federal Procurement Policy

DEPARTMENT OF DEFENSE

GENERAL SERVICES ADMINISTRATION

NATIONAL AERONAUTICS AND SPACE ADMINISTRATION

[OMB Control No. 9000-0152; Docket No. 2025-0053; Sequence No. 2]

Submission for OMB Review; Service Contracting

AGENCY: Office of Federal Procurement Policy (OFPP), Office of Management and Budget (OMB); Department of Defense (DOD); General Services Administration (GSA); and National Aeronautics and Space Administration (NASA).

ACTION: Notice.

SUMMARY: Under the provisions of the Paperwork Reduction Act, the Regulatory Secretariat Division has submitted to OMB a request to review and approve an extension of a previously approved information collection requirement regarding service contracting.

DATES: Submit comments on or before June 26, 2025.

ADDRESSES: Written comments and recommendations for this information collection should be sent within 30 days of publication of this notice to www.reginfo.gov/public/do/PRAMain. Find this particular information collection by selecting “Currently under Review—Open for Public Comments” or by using the search function.

FOR FURTHER INFORMATION CONTACT: FARPolicy@gsa.gov or call 202-969-4075.

SUPPLEMENTARY INFORMATION:

A. OMB Control Number, Title, and Any Associated Form(s):

9000-0152, Service Contracting.

B. Need and Uses

This clearance covers the information that offerors must submit to comply with the FAR requirements at FAR 52.237-10, Identification of Uncompensated Overtime. This provision requires offerors, when professional or technical services are acquired on the basis of the number of hours to be provided, to identify uncompensated overtime hours in excess of 40 hours per week, whether at the prime or subcontract level. This includes uncompensated overtime hours that are in indirect cost pools for personnel whose regular hours are normally charged direct.

The contracting officer will use the collected information to perform an adequate cost realism analysis of the offerors' proposed labor rates. Proposals which include unrealistically low labor rates, or which do not otherwise demonstrate cost realism, will be considered by the contracting officer in a risk assessment and evaluated appropriately. The primary purpose for obtaining the information and using it during the source selection process is to discourage the use of uncompensated overtime.

C. Annual Burden

Respondents: 20,076.

Total Annual Responses: 20,076.

Total Burden Hours: 10,038.

D. Public Comment

A 60-day notice was published in the Federal Register at 90 FR 11974, on March 13, 2025. A comment was received; however, it did not change the estimate of the burden.

Comment: This collection is in need of changes to improve efforts to avoid duplication of personnel service hours charged and possible overcharge of hours worked that are not part of the original agreement. This would be a significant cost savings measure for the Government.

Response: The respondents' input is appreciated. Any changes to the collection will require rulemaking. The solicitation provision at FAR 52.237-10 requires offerors to identify uncompensated overtime hours in excess of 40 hours per week in their offers. The contracting officer will use the collected information to perform an adequate cost realism analysis of the offerors' proposed labor rates.

Obtaining Copies: Requesters may obtain a copy of the information collection documents from the GSA Regulatory Secretariat Division by calling 202-501-4755 or emailing GSARegSec@gsa.gov. Please cite OMB Control No. 9000-0152, Service Contracting.

Janet Fry,
Director, Federal Acquisition Policy Division, Office of Governmentwide Acquisition Policy, Office of Acquisition Policy, Office of Governmentwide Policy.

[FR Doc. 2025-09467 Filed 5-23-25; 8:45 am]

BILLING CODE 6820-EP-P